DEPARTMENT OF JUSTICE

Notice of Lodging of Consent Decree Under the Clean Air Act

Notice is hereby given that on July 29, 2011, a proposed Consent Decree (“Consent Decree”) in United States v. The Dow Chemical Company, Civil Action No. 1:11-cv-13330-TLL-CEB, was lodged with the United States District Court for the Eastern District of Michigan.

In this action, the United States sought penalties from The Dow Chemical Company (“Dow”) for alleged violations of Section 112 of the Clean Air Act, 42 U.S.C. 7412, Section 301(a) of the Clean Water Act, 42 U.S.C. 1311(a), and Section 3005(a) of the Resource Conservation and Recovery Act, 42 U.S.C. 6925(a), at Dow's chemical manufacturing and research facility in Midland, Michigan. Under the Consent Decree, Dow will implement an Enhanced Leak Detection and Repair (“LDAR”) Program which imposes leak monitoring and repair requirements more stringent than existing LDAR regulations, including more frequent monitoring, more stringent repair practices, and the use of new, low-emissions valve technology. Dow also will pay a civil penalty of $2.5 million.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. The Dow Chemical Company, D.J. Ref. No. 90-5-2-1-08935.

During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. If requesting a copy from the Consent Decree Library by mail, please enclose a check in the amount of $19.00 (25 cents per page reproduction cost) payable to the U.S. Treasury, or, if requesting by email or fax, forward a check in that amount to the Consent Decree Library at the address given above.

Maureen M. Katz,
Assistant Chief, Environmental Enforcement Section, Environment and Natural Resources Division.

[FR Doc. 2011-19657 Filed 8-2-11; 8:45 am]

BILLING CODE 4410-15-P